DEPARTMENT OF ENERGY

Federal Energy Regulatory Commission

[Docket No. EC05-140-000]

Portland General Electric Company and Stephen Forbes Cooper, LLC; Notice of Filing

September 26, 2005.

Take notice that on September 21, 2005, Portland General Electric Company (PGE), an electric utility, for which Enron Corp., (Enron) owns all of the outstanding common stock, and Stephen Forbes Cooper, LLC 9SFC) on behalf of the Reserve for Disputed Claims (collectively, Applicants) filed with the Commission pursuant to section 203 of the Federal Power Act an application for authorization for the transfer of control over PGE from Enron to SFC, as Disbursing Agent, for and on behalf of the Reserve, and for authorization for the release of New PGE Common Stock from the Reserve to Holders of Allowed Claims, which will occur over a multi-year period. Applicants state that the transaction is a required step in the court-approved Enron bankruptcy plan, and will result in PGE returning to a stand-alone, publicly-traded utility company.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on October 17, 2005.

Magalie R. Salas,
Secretary.

[FR Doc. E5-5393 Filed 9-30-05; 8:45 am]

BILLING CODE 6717-01-P